Title 3—

The President

Proclamation 11007 of January 29, 2026

Year of Celebration and Rededication, 2026

By the President of the United States of America

A Proclamation

On January 1, 2026, the United States began our year-long commemoration of an important milestone in the history of our country: 250 years of American freedom and independence.

Two and a half centuries ago, on July 4, 1776, thousands of years' worth of wisdom, philosophy, and culture were brought together in Philadelphia where delegates to the Second Continental Congress gathered to declare the birth of a new nation—“conceived in Liberty and dedicated to the proposition that all men are created equal”—and, in so doing, launched the single greatest force for goodness, justice, prosperity, and human flourishing the world has ever known.

As we celebrate the 250th year since the signing of the Declaration of Independence, we acknowledge with gratitude and pride that July 4, 1776, represents the most seminal political event in all of human history.

Unlike other nations, America's Founding was rooted in the belief that every man, woman, and child is “endowed by their Creator with certain unalienable Rights, that among these are Life, Liberty and the pursuit of Happiness.”

This conviction, enshrined in our Declaration of Independence, and indelibly etched upon every American heart, remains the bedrock of our government and the crown jewel of Western civilization. For 250 years, the burning flame of liberty has been passed down from one generation to the next, and has carried our Nation and our people to heights that our Founding Fathers could have never dreamed.

Guided by the example of Founding Fathers like George Washington, John Adams, James Madison, Benjamin Franklin, and other American patriots who helped light the torch of liberty in 1776, let us ask our Creator to bless America, free our Nation and our people from all threats to our safety and happiness, and to guide our actions for the security and common good of all Americans.

This year, we honor and cherish the generations of pioneers, warriors, statesmen, preachers, inventors, risk-takers, workers, and heroes whose unwavering commitment to the promise of freedom gave rise to the greatest Republic ever created. Today and throughout this year, I call on every American to celebrate this triumph of the American spirit, and to rededicate themselves to the sacred cause of liberty and justice for all.

The Bible teaches: “In all circumstances give thanks.” As such, it is fitting that we mark this special year as a unique occasion to celebrate our proud history, reflect on our abundant blessings, pray for our country and our people, and rededicate ourselves as one Nation under God.

From the earliest days of our national story, reflection and thanksgiving have been central to our character, identity, and destiny. Just weeks before declaring independence, the Second Continental Congress ordered a day of “fasting, humiliation and prayer,” petitioning God “to pardon all our manifold sins and transgressions” and to “establish the peace and freedom of America, upon a solid and lasting foundation.” Later, in the heart of the Revolutionary War, the Second Continental Congress declared it “the indispensable duty of all men to adore the superintending providence of Almighty God.”

In the sweltering summer of 1776, the promise of Freedom moved our ancestors to break with a tyrannical empire, issue the Declaration of Independence, and go on to overcome every hardship to establish a Republic like no other. It is this unwavering spirit of courage, faith and patriotism that propelled Paul Revere on his famous midnight ride, and that later inspired some of the world's greatest men to pledge their lives, fortunes, and sacred honor to build a new nation. It is this spirit that led General George Washington to persevere at Valley Forge; inspired Davy Crockett to make his last stand at the Alamo; sustained settlers on the Oregon Trail; held the bloody ridges of Gettysburg; set slavery on a path to worldwide extinction; roused a generation of young men to conquer tyranny and communism overseas; and carried our beautiful Stars and Stripes to the face of the moon. To this very day, it is this American spirit that lives on in the hearts, minds, and souls of every patriot—and inspires every new generation of American citizens to reach further and aim higher.

When the Second Continental Congress voted in favor of independence, General George Washington issued General Orders to his army. In words that have echoed throughout history, he wrote: “The fate of unborn Millions will now depend, under God, on the Courage and Conduct of this army. . . Let us therefore rely upon the goodness of the Cause, and the aid of the supreme Being, in whose hands Victory is, to animate and encourage us to great and noble Actions.”

Today, too, we pray that our noble cause continues to be guided by the hand of providence and the grace of God—and that the fire of freedom will forever burn brightly in the heart of every American. Above all, this year, we pray and endeavor that the triumph of the American spirit and the glorious truths expressed in our Declaration of Independence will shine more radiantly than ever before.

NOW, THEREFORE, I, DONALD J. TRUMP, President of the United States of America, do hereby proclaim 2026 as a Year of Celebration and Rededication. I call on every American to reflect upon and celebrate the wisdom and deeds of the heroes of our Founding who made the miracle of America possible. I call on parents to teach their children about America's inspiring history, heritage, and heroes. I invite the world to come to our shores to experience the splendor, warmth, and hospitality of America. And I encourage all Americans—including businesses, churches, families, and the military—to observe this year, reflecting on the blessings our Nation has received, with appropriate programs, ceremonies, concerts, celebrations, and activities in their homes, schools, work, communities, military bases, and houses of worship.

IN WITNESS WHEREOF, I have hereunto set my hand this twenty-ninth day of January, in the year of our Lord two thousand twenty-six, and of the Independence of the United States of America the two hundred and fiftieth.

[FR Doc. 2026-02248

Filed 2-2-26; 11:15 am]

Billing code 3395-F4-P